DEPARTMENT OF HOMELAND SECURITY

Federal Emergency Management Agency

[Docket ID: FEMA-2007-0008]

National Advisory Council Meeting

AGENCY: Federal Emergency Management Agency, DHS.

ACTION: Notice of the National Advisory Committee Meeting.

SUMMARY: This notice announces the date, time, location, and agenda for the next meeting of the National Advisory Council (NAC). At the meeting, the subcommittees will report on their work since the April 15-16, 2009 meeting. This meeting will be open to the public.

DATES: Meeting Dates: Wednesday, July 29, 2009, from approximately 10 a.m. to 5:15 p.m. and Thursday, July 30, 2009, 10:15 a.m. to 2:15 p.m. A public comment period will take place on the afternoon of July 30, 2009, between approximately 1:15 p.m. and 1:45 p.m.

Comment Date: Persons wishing to make an oral presentation, or who are unable to attend or speak at the meeting, may submit written comments. Written comments or requests to make oral presentations must be received by July 20, 2009.

ADDRESSES: The meeting will be held at the Alerus Center, 1200 South 42nd Street, Grand Forks, ND 58201. Written comments and requests to make oral presentations at the meeting should be provided to the address listed in the FOR FURTHER INFORMATION CONTACT section and must be received by July 20, 2009. All submissions received must include the Docket ID FEMA-2007-0008 and may be submitted by any one of the following methods:

Federal Rulemaking Portal: http://www.regulations.gov. Follow the instructions for submitting comments on the Web site.

E-mail: FEMA-RULES@dhs.gov. Include Docket ID FEMA-2007-0008 in the subject line of the message.

Facsimile: (703) 483-2999.

Mail: Office of Chief Counsel, Federal Emergency Management Agency, Room 835, 500 C Street, SW., Washington, DC 20472-3100.

Hand Delivery/Courier: Office of the Chief Counsel, Federal Emergency Management Agency, Room 835, 500 C Street, SW., Washington, DC 20472-3100.

Instructions: All submissions received must include the Docket ID FEMA-2007-0008. Comments received also will be posted without alteration at http://www.regulations.gov, including any personal information provided.

Docket: For access to the docket to read documents or comments received by the National Advisory Council, go to http://www.regulations.gov.

FOR FURTHER INFORMATION CONTACT: Alyson Price, Designated Federal Officer, Federal Emergency Management Agency, 500 C Street, SW., (Room 718), Washington, DC 20472-3100, telephone 202-646-3746, fax 202-646-4176, and e-mail FEMA-NAC@dhs.gov. The NAC Web site is located at: http://www.fema.gov/about/nac/.

SUPPLEMENTARY INFORMATION: Notice of this meeting is required under the Federal Advisory Committee Act (FACA), Public Law 92-463, as amended (5 U.S.C. App. 1 et seq.). The National Advisory Council (NAC) will meet for the purpose of reviewing the progress and/or potential recommendations of the following NAC subcommittees and working group: Stafford Act, National Response Framework, National Incident Management System, Post-Disaster Housing, Special Needs, Public/Private Partnerships, and Target Capabilities List. The council may receive updates on preparedness issues, mitigation issues, and the Regional Advisory Councils.

Public Attendance: The meeting is open to the public. Please note that the meeting may adjourn early if all business is finished. Persons with disabilities who require special assistance should advise the Designated Federal Officer of their anticipated special needs as early as possible. Members of the public who wish to make comments on Thursday, July 30, 2009 between 1:15 p.m. and 1:45 p.m. are requested to register in advance, and if the meeting is running ahead of schedule, the public comment period may take place at 11:30 a.m.; therefore, all speakers must be present and seated by 10:15 a.m. In order to allow as many people as possible to speak, speakers are requested to limit their remarks to 3 minutes. For those wishing to submit written comments, please follow the procedure noted above.

Dated: June 9, 2009.
W. Craig Fugate,
Administrator, Federal Emergency Management Agency.

[FR Doc. E9-14932 Filed 6-24-09; 8:45 am]

BILLING CODE 9111-48-P